DEPARTMENT OF HEALTH AND HUMAN SERVICES

Centers for Disease Control and Prevention

[30Day-55-04]

Proposed Data Collections Submitted for Public Comment and Recommendations

The Centers for Disease Control and Prevention (CDC) publishes a list of information collection requests under review by the Office of Management and Budget (OMB) in compliance with the Paperwork Reduction Act (44 U.S.C. chapter 35). To request a copy of these requests, call the CDC Reports Clearance Officer at (404) 498-1210 or send an e-mail to omb@cdc.gov. Send written comments to CDC Desk Officer, Human Resources and Housing Branch, New Executive Office Building, Room 10235, Washington, DC 20503 or by fax to (202) 395-6974. Written comments should be received within 30 days of this notice.

Proposed Project

U.S.-Mexico Border Diabetes Prevention and Control Project—Phase 2 Community Intervention Pilot Project, OMB No. 0920-0489—Reinstatement with change—National Center for Chronic Disease Prevention and Health Promotion (NCCDPHP), Centers for Disease Control and Prevention (CDC). The Pan American Health Organization (PAHO), El Paso Field Office, in collaboration with the CDC-funded United States/Mexico Border Diabetes Prevention and Control Programs, and the Mexico Secretariat of Health will conduct Phase 2 of the U.S.-Mexico Diabetes Prevention and Control Project. This phase 2 is the natural follow-up to the household survey to determine the burden of diabetes on the border population (Phase 1).

The purpose of the project is to diminish the impact of diabetes on the border population by conducting activities in two related and chronological phases (prevalence study and intervention program). Phase 1, which will assess the prevalence of diabetes, related behavioral risk factors, and assess the health services for the border population, was completed in October 2002. Phase 2 will be implemented in eleven pilot communities, where persons living with diabetes will be randomized to either intervention group participant (IGP) or delayed intervention control group participant (DICGP). The DICGP will receive usual diabetes self management education by the health care provider in a community health center setting, and the IGP will be assigned to receive diabetes self management education reinforcement and coaching social support at the community home level, by a Community Health Worker/Promotor de Salud (CHW/PdS). These programs will be culturally and linguistically appropriate and will include the participation of community health workers (promotores) and primary healthcare providers working as a team approach.

Activities for Phase 2 will include implementation of community interventions that will provide weekly site visits to the person living with diabetes and provide follow-up and support for the participant and their family. Two family members, found with the highest risk factor ratio will also be interviewed by the CHW/PdS. The CHW/PdS will reinforce educational messages on balanced nutrition and physical activity and provide social support and coaching to the person living with diabetes and their family members. An equal number of participants will be in the delayed intervention control group. This group and their high risk family members will complete an initial household survey and a final household survey at the end of 18 months. The CHW/PdS will be trained in diabetes and community mobilization skills. The household survey will be repeated in the fifth year of the project for evaluation purposes. There is no cost to respondents. The estimated annualized burden is 3,960 hours.

Respondents | Number of respondents | Number of responses per respondent | Average burden per response (in hrs)
Intervention group participants | 330 | 2 | 1
IGP family members | 660 | 2 | 1
Delayed intervention control group participants | 330 | 2 | 1
DICGP family members | 660 | 2 | 1

Dated: June 22, 2004.
Diane Allen,
Acting Director, Management Analysis and Services Office, Centers for Disease Control and Prevention.

[FR Doc. 04-14931 Filed 6-30-04; 8:45 am]

BILLING CODE 4163-18-P